SURFACE TRANSPORTATION BOARD

[Docket No. FD 36269]

Tennessee Railroad Holdings, LLC—Acquisition Exemption—Sequatchie Valley Railroad, Inc.

Tennessee Railroad Holdings, LLC (TRH), a noncarrier, has filed a verified notice of exemption under 49 CFR 1150.31 to acquire from Sequatchie Valley Railroad, Inc. (SQVR), approximately 11.77 miles of rail line that extends between milepost 0.0, a point of connection to CSX Transportation, Inc., at or near Bridgeport, Jackson County, Ala., and milepost 11.77, the end of track at or near Jaspar, Marion County, Tenn. (the Line).

The transaction is related to a concurrently filed verified notice of exemption in Gregory B. Cundiff Trust—Continuance in Control Exemption—Tennessee Railroad Holdings, Inc., Sequatchie Valley Switching Co., LLC, & Walking Horse Railroad, LLC, Docket No. FD 36272, in which the Gregory B. Cundiff Trust, the Connie Cundiff Trust, CGX, Inc., and Ironhorse Resources, Inc., seek to continue in control of TRH upon TRH's becoming a Class III rail carrier.

TRH certifies that its projected annual revenues as a result of this transaction will not exceed those that would qualify it as a Class III rail carrier and will not exceed $5 million. TRH further certifies that its acquisition of the Line does not involve any provision or agreement that would limit future interchange.

The transaction may be consummated on or after March 27, 2019, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions to stay must be filed no later than March 20, 2019 (at least seven days before the exemption becomes effective).

An original and 10 copies of all pleadings, referring to Docket No. FD 36269, must be filed with the Surface Transportation Board, 395 E Street SW, Washington, DC 20423-0001. In addition, a copy of each pleading must be served on Thomas F. McFarland: Thomas F. McFarland, P.C., 208 South LaSalle Street, Suite 1666, Chicago, IL 60604-1228.

Board decisions and notices are available at www.stb.gov.

Decided: March 8, 2019.
By the Board, Allison C. Davis, Acting Director, Office of Proceedings.
Jeffrey Herzig,
Clearance Clerk.

[FR Doc. 2019-04614 Filed 3-12-19; 8:45 am]

BILLING CODE 4915-01-P